DEPARTMENT OF LABOR

Employment and Training Administration

[TA-W-51, 092]

Adecco, North American, LLC, Fort Worth, TX; Notice of Termination of Investigation

Pursuant to Section 221 of the Trade Act of 1974, an investigation was initiated on March 7, 2003 in response to a worker petition which was filed on behalf of workers at Adecco, North American, LLC, Fort Worth, Texas.

An active certification covering the petitioning group of workers is already in effect (TA-W-41,716, as amended). Consequently, further investigation in this case would serve no purpose, and the investigation has been terminated.

Signed at Washington, DC this 9th day of April 2003.
Linda G. Poole,
Certifying Officer, Division of Trade Adjustment Assistance.

[FR Doc. 03-10348 Filed 4-25-03; 8:45 am]

BILLING CODE 4510-30-P